ARCTIC RESEARCH COMMISSION

Meetings

Notice is hereby given that the U.S Arctic Research Commission will hold its 87th meeting in Fairbanks, AK from June 29 to July 3, 2008. The business session, open to the public, will commence at 10 a.m. on Monday, June 30 and continue throughout the week in conjunction with the Ninth International Permafrost Conference. The Commission will undertake a series of field trips to research facilities in and around Fairbanks.

The Agenda items include:

(1) Call to order and approval of the agenda.

(2) Approval of the minutes of the 86th meeting.

(3) Reports from Commissioners.

(4) Internal Commission business and administration.

The focus of the meeting will be reports and updates on programs and research projects affecting the Arctic.

Any person planning to attend this meeting who requires special accessibility features and/or auxiliary aids, such as sign language interpreters, must inform the Commission in advance of those needs.

Contact person for more information: John Farrell, Executive Director, U.S. Arctic Research Commission, 703-525-0111 or TDD 703-306-0090.

John Farrell,
Executive Director.

[FR Doc. E8-14048 Filed 6-23-08; 8:45 am]

BILLING CODE 7555-01-M